DEPARTMENT OF LABOR

Employment and Training Administration

[TA-W-64,628]

Kelsey-Hayes Company, a Subsidiary of TRW Automotive Holdings Corporation, Including On-Site Leased Workers From Volt Technical Resources, Livonia, MI; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on February 4, 2009, applicable to workers of Kelsey-Hayes Company, a subsidiary of TRW Automotive Holding Corporation, Livonia, Michigan. The notice was published in the Federal Register on March 3, 2009 (74 FR 9282).

At the request of the State agency, the Department reviewed the certification for workers of the subject firm. The workers are engaged in administrative functions and product engineering support for automotive components.

New information shows that workers leased from Volt Technical Resources were employed on-site at the Kelsey-Hayes Company, a subsidiary or TRW Automotive Holdings Corporation, Livonia, Michigan. The Department has determined that these workers were sufficiently under the control of the subject firm to be considered leased workers.

Based on these findings, the Department is amending this certification to include workers leased from Volt Technical Resources employed on-site at the Kelsey-Hayes Company, a subsidiary or TRW Automotive Holdings Corporation, Livonia, Michigan.

The amended notice applicable to TA-W-64,628 is hereby issued as follows:

All workers of Kelsey-Hayes Company, a subsidiary or TRW Automotive Holdings Corporation, including on-site leased workers from Volt Technical Resources, Livonia, Michigan, who became totally or partially separated from employment on or after December 8, 2007, through February 4, 2011, are eligible to apply for adjustment assistance under Section 223 of the Trade Act of 1974, and are also eligible to apply for alternative trade adjustment assistance under Section 246 of the Trade Act of 1974.

Signed at Washington, DC, this 30th day of June 2009.
Linda G. Poole,
Certifying Officer, Division of Trade Adjustment Assistance.

[FR Doc. E9-16606 Filed 7-13-09; 8:45 am]

BILLING CODE 4510-FN-P